DEPARTMENT OF COMMERCE

Foreign-Trade Zones Board

[Order No. 1949]

Expansion of Subzone 38A BMW Manufacturing Company, LLC; Greer, South Carolina

Pursuant to its authority under the Foreign-Trade Zones Act of June 18, 1934, as amended (19 U.S.C. 81a-81u), the Foreign-Trade Zones Board (the Board) adopts the following Order:

Whereas, the South Carolina State Ports Authority, grantee of Foreign-Trade Zone 38, has made application to the Board to expand Subzone 38A at the facilities of BMW Manufacturing Company, LLC, to include temporary Site 8 located in Greer, South Carolina, on a permanent basis (FTZ Docket B-38-2014, docketed 05-14-2014);

Whereas, notice inviting public comment has been given in the Federal Register (79 FR 29167, 05-21-2014) and the application has been processed pursuant to the FTZ Act and the Board's regulations; and,

Whereas, the Board adopts the findings and recommendations of the examiner's memorandum, and finds that the requirements of the FTZ Act and the Board's regulations are satisfied;

Now, therefore, the Board hereby orders;

The application to expand Subzone 38A is approved, subject to the FTZ Act and the Board's regulations, including Section 400.13.

Signed at Washington, DC, this 29th day of August 2014.
Paul Piquado,
Assistant Secretary of Commerce for Enforcement and Compliance, Alternate Chairman, Foreign-Trade Zones Board.

[FR Doc. 2014-21589 Filed 9-9-14; 8:45 am]

BILLING CODE 3510-DS-P